FEDERAL COMMUNICATIONS COMMISSION

47 CFR Part 73

[DA 00-322; MM Docket No. 98-112; RM-9027; RM-9268; RM-9384]

Radio Broadcasting Services; Anniston and Ashland, AL, and College Park, GA

AGENCY: Federal Communications Commission.

ACTION: Final rule.

SUMMARY: At the request of WNNX License Investment Company this document substitutes Channel 263C3 for Channel 263C at Anniston, Alabama, reallots Channel 263C3 to College Park, Georgia, and modifies the license of Station WHMA to specify operation on Channel 263C3 at College Park. In addition, this document allots Channel 261C3 to Anniston, Alabama, and Channel 264A to Ashland, Alabama. See 63 FR 38787, published July 20, 1998. The reference coordinates for Channel 263C3 at College Park, Georgia, are 33-45-32 and 84-30-10. The reference coordinates for Channel 261C3 at Anniston, Alabama, are 33-40-51 and 85-48-56. The reference coordinates for Channel 264A at Ashland, Alabama, are 33-13-15 and 85-49-35. With this action, the proceeding is terminated.

DATES: Effective June 14, 2000.

FOR FURTHER INFORMATION CONTACT: Robert Hayne, Mass Media Bureau (202) 418-2177.

SUPPLEMENTARY INFORMATION: This is a synopsis of the Commission's Report and Order in MM Docket No. 98-112, adopted April 24, 2000, and released April 28, 2000. The full text of this decision is available for inspection and copying during normal business hours in the FCC's Reference Information Center at Portals II, CY-A257, 445 12th Street, SW, Washington, D.C. The complete text of this decision may also be purchased from the Commission's copy contractor, International Transcription Service, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Alabama, is amended by removing Channel 263C and adding Channel 261C3 at Anniston.

3. Section 73.202(b), the Table of FM Allotments under Alabama, is amended by adding Channel 264A, at Ashland.

4. Section 73.202(b), the Table of FM Allotments under Georgia, is amended by adding College Park, Channel 263C3.

Federal Communications Commission.
John A. Karousos,
Chief, Allocations Branch, Policy and Rules Division, Mass Media Bureau.

[FR Doc. 00-12256 Filed 5-17-00; 8:45 am]

BILLING CODE 6712-01-P